DEPARTMENT OF AGRICULTURE

Agricultural Marketing Service

7 CFR Part 1218

[Document No. AMS-SC-15-0076]

Blueberry Promotion, Research and Information Order; Continuance Referendum

AGENCY: Agricultural Marketing Service USDA.

ACTION: Referendum order.

SUMMARY: This document directs that a referendum be conducted among eligible producers and importers of highbush blueberries to determine whether they favor continuance of the Blueberry Promotion, Research and Information Order (Order).

DATES: The referendum will be conducted by mail ballot from July 5 through July 28, 2016. To be eligible to vote, blueberry producers and importers must have produced or imported 2,000 pounds or more of highbush blueberries during the representative period of January 1 through December 31, 2015, paid assessments during that period, and must currently be producers or importers of highbush blueberries subject to assessment under the Order. Ballots must be received by the referendum agents no later than the close of business on July 28, 2016, to be counted.

ADDRESSES: Copies of the Order may be obtained from: Referendum Agent, Promotion and Economics Division, Specialty Crops Program, AMS, USDA, 1400 Independence Avenue SW., Room 1406-S, Stop 0244, Washington, DC 20250-0244, telephone: (202) 720-9915; facsimile: (202) 205-2800; or contact Maureen Pello at (503) 632-8848 or via electronic mail: Maureen.Pello@ams.usda.gov.

FOR FURTHER INFORMATION CONTACT: Maureen Pello, Marketing Specialist, PED, SC, AMS, USDA, 1400 Independence Avenue SW., Room 1406-S, Stop 0244, Washington, DC 20250-0244; telephone: (202) 720-9915, (503) 632-8848 (direct line); facsimile: (202) 205-2800; or electronic mail: Maureen.Pello@ams.usda.gov.

SUPPLEMENTARY INFORMATION: Pursuant to the Commodity Promotion, Research and Information Act of 1996 (7 U.S.C. 7411-7425) (Act), it is hereby directed that a referendum be conducted to ascertain whether continuance of the Order (7 CFR part 1218) is favored by eligible producers and importers of highbush blueberries. The Order is authorized under the Act.

The representative period for establishing voter eligibility for the referendum shall be the period from January 1 through December 31, 2015. Persons who produced or imported 2,000 pounds or more of highbush blueberries during the representative period, paid assessments during that period, and are currently highbush blueberry producers or importers subject to assessment under the Order are eligible to vote. Persons who received an exemption from assessments for the entire representative period are ineligible to vote. The referendum will be conducted by mail ballot from July 5 through July 28, 2016.

Section 518 of the Act authorizes continuance referenda. Under § 1218.71(b) of the Order, the U.S. Department of Agriculture (USDA) must conduct a referendum every 5 years to determine whether persons subject to assessment favor continuance of the Order. The last referendum was held in 2011. USDA would continue the Order if continuance is favored by a majority of the producers and importers voting in the referendum, who also represent a majority of the volume of blueberries represented in the referendum.

In accordance with the Paperwork Reduction Act of 1995 (44 U.S.C. chapter 35), the referendum ballot has been approved by the Office of Management and Budget (OMB) and assigned OMB No. 0581-0093. It has been estimated that there are approximately 1,860 producers and 180 importers who will be eligible to vote in the referendum. It will take an average of 15 minutes for each voter to read the voting instructions and complete the referendum ballot.

Referendum Order

Maureen Pello, Marketing Specialist, and Heather Pichelman, Director, PED, SC, AMS, USDA, Stop 0244, Room 1406-S, 1400 Independence Avenue SW., Washington, DC 20250-0244, are designated as the referendum agents to conduct this referendum. The referendum procedures at 7 CFR 1218.100 through 1218.107, which were issued pursuant to the Act, shall be used to conduct the referendum.

The referendum agent will mail the ballots to be cast in the referendum and voting instructions to all known, eligible highbush blueberry producers and importers prior to the first day of the voting period. Persons who produced or imported 2,000 more pounds of highbush blueberries during the representative period, paid assessments during that period, and are currently highbush blueberry producer or importers subject to assessment under the Order are eligible to vote. Persons who received an exemption from assessments during the entire representative period are ineligible to vote. Any eligible producer or importer who does not receive a ballot should contact the referendum agent no later than one week before the end of the voting period. Ballots must be received by the referendum agent by 4:30 p.m. Eastern time, July 28, 2016, in order to be counted.

List of Subjects in 7 CFR Part 1218

Administrative practice and procedure, Advertising, Blueberry promotion, Consumer information, Marketing agreements, Reporting and recordkeeping requirements.

Authority: 7 U.S.C. 7411-7425; 7 U.S.C. 7401.

Dated: February 18, 2016.
Erin Morris,
Associate Administrator.

[FR Doc. 2016-03806 Filed 2-22-16; 8:45 am]

BILLING CODE 3410-02-P